DEPARTMENT OF HOMELAND SECURITY

Coast Guard

[CGD05-05-020]

Special Local Regulations for Marine Events; Piankatank River, Gloucester County, Virginia

AGENCY: Coast Guard, DHS.

ACTION: Notice of meeting; correction.

SUMMARY: The Coast Guard published a document in the Federal Register on May 27, 2005, concerning a public meeting to provide a forum for citizens to provide oral comments relating to the “2005 Piankatank River Race”, a marine event proposed to be held over the waters of the Piankatank River in Gloucester County, Virginia on July 23, 2005. The document contained the incorrect zip code in the ADDRESSES paragraph.

FOR FURTHER INFORMATION CONTACT: Dennis Sens, Recreational Boating Safety Specialist, Fifth Coast Guard District, telephone 757-398-6204, Fax 757-398-6203.

Correction

In the Federal Register of May 27, 2005, in FR Doc. Vol 70, Number 102, on page 30656, in the second column, correct the zip code within the ADDRESSES paragraph from “23321” to read “23704”.

Dated: June 14, 2005.
Kevin B. Smith,
Captain, U.S. Coast Guard, Commander, Fifth Coast Guard District, Chief of Operations.

[FR Doc. 05-12238 Filed 6-21-05; 8:45 am]

BILLING CODE 4910-15-P